DEPARTMENT OF DEFENSE

Office of the Secretary

Termination of Department of Defense Federal Advisory Committees

AGENCY: DoD.

ACTION: Termination of Federal Advisory Committee.

SUMMARY: Under the provisions of the Federal Advisory Committee Act of 1972, (5 U.S.C. Appendix), 41 CFR 102-3.55(a)(1), the Government in the Sunshine Act of 1976 (5 U.S.C. 552b), and the Sunset provisions of Section 506 of Public Law 111-84, effective March 5, 2011 the Department of Defense gives notice that it is terminating the Independent Panel Review of Judge Advocate Requirements of the Department of the Navy.

FOR FURTHER INFORMATION CONTACT: Contact Jim Freeman, Deputy Advisory Committee Management Officer for the Department of Defense, 703-601-6128.

Dated: March 4, 2011.
Morgan F. Park,
Alternate OSD Federal Register Liaison Officer, Department of Defense.

[FR Doc. 2011-5905 Filed 3-14-11; 8:45 am]

BILLING CODE 5001-08-P